DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 29, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Production and Conservation Business Center

Title: Request for Geospatial Products and Services.

OMB Control Number: 0565-NEW.

Summary of Collection: In accordance with the Paperwork Reduction Act, 1995, he Farm Production and Conservation (FPAC) is requesting comments from all interested individuals and organizations on a new information collection request for the. The information collection is needed to enable the Department of Agriculture to effectively administrate the Geospatial and Aerial Photography Programs. GEO has the responsibility for acquiring and conducting coordination of the FPAC's geospatial datasets and the aerial photography flying contracts and remote sensing programs. The geospatial data and digital aerial imagery secured by FPAC BC is public domain and reproductions are available at cost to any customer with a need. All receipts from the sale of geospatial products and services are retained by FPAC BC. This collection will get an FPAC OMB control number. The FPAC-ISD-441, Request for Geospatial Products and Services, is the form FPAC supplies to the customers for placing an order for aerial imagery products and services. The burden hours have decreased because FPAC-ISD-441B Request for Custom Aerial Print and FPAC-ISD441D One Time Credit Card Payment Authorization forms are now obsolete.

For the following estimated total annual burden on respondents, the formula used to calculate the total burden hour is the estimated average time per responses hours multiplied by the estimated total annual responses. The information collection request will get new FPAC OMB control number.

Estimate of Burden: Public reporting burden for the information collection is estimated to average 16 minutes per response.

Type of Respondents: Farmers, Ranchers, and other customers who wish to purchase imagery products and services.

Estimated Number of Respondents: 1,425.

Estimated Annual Number of Responses per Respondent: 1.

Estimated Total Annual Responses: 1,425.

Estimated Average Time per Response: 0.303.

Estimated Total Annual Burden Hours on Respondents: 432 hours.

Rachelle Ragland-Greene,
Departmental Information Collection Clearance Officer.

[FR Doc. 2024-31053 Filed 12-27-24; 8:45 am]

BILLING CODE 3411-E2-P